DEPARTMENT OF THE INTERIOR

[UT080-1310-00]

Notice of Availability of the Draft Environmental Impact Statement on Inland Resources Inc., Castle Peak and Eight Mile Flat Oil & Gas Expansion Project, Uintah County, UT

AGENCY: Bureau of Land Management, Interior.

ACTION: Notice of Availability.

SUMMARY: Under the National Environmental Policy Act of 1969 (NEPA) and implementing regulations, the Bureau of Land Management (BLM) announces the availability of The Draft Environmental Impact Statement (DEIS) for the proposed Inland Resources Inc., Castle Peak and Eight Mile Flat Oil & Gas Expansion Project. The DEIS analyzes and discloses to the public direct, indirect and cumulative environmental impacts of proposed expansion of existing waterflood oil recovery operations in the Monument Butte production region. The proponent proposes to drill up to 900 additional wells by the year 2015. Two additional alternatives to the proposed action are also analyzed.

DATES: Written comments on the Inland Resources Inc., Castle Peak and Eight Mile Flat Oil & Gas Expansion Project DEIS will be accepted for 45 days following the date the Environmental Protection Agency (EPA) publishes this Notice of Availability in the Federal Register. Future public meetings and any other public involvement activities will be announced at least 15 days in advance through public notices, media news releases, the BLM Vernal Field Office Web site at http://www.blm.gov/utah/vernal and/or mailings.

The BLM asks that those submitting comments on the DEIS make them as specific as possible with references to page numbers and chapters of the document. Comments that contain only opinions or preferences will not receive a formal response, but will be considered and included as part of the BLM decision-making process.

ADDRESSES: Please address questions, comments or concerns to the Vernal Field Office, Bureau of Land Management, Attn: Jean Nitschke-Sinclear, 170 South 500 East, Vernal, UT 84078, fax them to (435) 781-4410, or send e-mail comments to the attention of Jean Nitschke-Sinclear at jean_nitschke-sinclear@blm.gov. A copy of the DEIS has been sent to affected Federal, State, and local government agencies; and persons and entities who indicated to the BLM that they wished to receive a copy of the DEIS.

Written comments, including names and addresses of respondents, will be available for public review at the BLM, Vernal Field Office during normal business hours (7:45 a.m. to 4:30 p.m.). Responses to the comments will be published as part of the Final Environmental Impact Statement (FEIS). Individuals may request confidentiality. If you wish to withhold your name or address from public review or from disclosure under the Freedom of Information Act, you must state this prominently at the beginning of your comment. Such requests will be honored to the extent allowed by law. All submissions from organizations or businesses will be made available for public inspection in their entirety.

Copies of the Inland Resources Inc., Castle Peak and Eight Mile Flat Oil & Gas Expansion Project DEIS are available at the BLM Vernal Field Office at the address above. The DEIS may also be viewed and downloaded in PDF format at the BLM Vernal Field Office Web site at http://www.blm.gov/utah/vernal.

FOR FURTHER INFORMATION CONTACT: Jean Nitschke-Sinclear, or Veronica Herkshan, Planning Specialist, at BLM's Vernal Field Office listed above or telephone (435-781-4400).

SUPPLEMENTARY INFORMATION: The DEIS analyzes proposed expanded waterflood oil recovery on about 65,500 total acres in the Monument Butte region, approximately 25 miles southwest of Roosevelt, in Township 8 South, Ranges 17-19 East, SLBM; and, Township 9 South, Ranges 16-19 East, SLBM. The proposed project is located primarily on BLM-administered lands (59,757 acres, or 91% of the project area) and includes 5,777 acres (or about 9%) of State of Utah administered lands; and, 41 acres (less than 1%) of private lands. The proponent anticipates drilling up to 900 additional wells at a rate of 70 to 130 a year or until the resource base is fully developed. The total number of wells drilled would depend largely on factors out of the Company's control such as geology, economic factors, and lease restrictions. The wells would be drilled on a 40-acre spacing pattern to recovery oil and gas reserves from the Green River Formation (involving depths of 4,500 to 6,500 feet). Inland would drill approximately 50 percent of the wells as producing wells, and 50 percent as water injection wells. The water injection wells would allow reservoir pressure to be managed and oil recovery to be maximized. Water would be supplied from existing Water District contracts and from various oil and water bearing reservoirs within the Green River Formation underlying the oil field. At its peak water usage, the project would require about 1,400 acre feet per year. Other project-related activities would include the construction and operation of roads, gas pipelines, well pads (with pumping units and oil storage tanks), and water pipelines. Inland Resources, Inc., also proposes to construct a new water filtration/injection plant with injection capacities of 2,500 to 4,000 barrels of water per day as well as a pump house. Produced oil from new wells would be transported from 400-barrel well site storage tanks by tanker truck to refineries near Salt Lake City, Utah. Gas would be transported via pipeline to one of Inland's existing compression facilities. Produced water would be trucked to one of several existing Inland water injection plants where it would be filtered and mixed with culinary fresh water before being re-injected into the oil reservoir via a water-pipeline and injection well system. No new compressor stations are anticipated.

Existing producing wells within the project area were drilled between 1980 and 1996. By the late 1980's, most of these wells were reaching the end of their economically useful life using conventional recovery methods. In 1995 Inland received approval from BLM to drill 296 over a 5-year period as part of a research effort to try commercial use of waterflood technology for oil recovery. In 1997 BLM approved an additional 300 wells for Inland to drill 300 wells using the waterflood technology.

The Notice of Intent for preparation of the Draft Environmental Impact Statement on the Inland Resources Inc., Castle Peak and Eight Mile Flat Oil & Gas Expansion Project was published in the Federal Register on May 8, 2002. Public participation was sought through scoping, public meetings and “stakeholder” meetings conducted with interested agencies and organizations. Specifically, BLM conducted a public scoping and information open house in Roosevelt and Vernal, Utah on June 11 and 12, 2002, respectively; and a stakeholders meeting on May 23, 2002. Through the scoping process several issues have been identified including potential impacts on socio-economics; cultural resources; paleontological resources; wildlife and listed and special status wildlife and plant species habitats; soils and water resources; Pariette Wetlands Complex Area of Critical Environmental Concern; and cumulative impacts.

The BLM has developed two alternatives in addition to the proposed action for analysis in the DEIS. Alternative A discusses the effects of the Proposed Action as modified by the application of stipulations identified in the Diamond Mountain Resource Management Plan and mitigation measures recommended to reduce environmental effects. At this time Alternative A is the BLM's preferred alternative. The No Action Alternative considers the operation of existing wells and drilling of additional wells authorized and granted with conditions of approval developed from previous NEPA documents, the 1994 Diamond Mountain Resource Management Plan and existing lease rights. The proposed action and alternative being considered in the DEIS are in conformance with the 1994 Diamond Mountain Resource Management Plan.

Dated: September 9, 2004.
William Stringer,
Vernal Field Manager.

[FR Doc. 04-22738 Filed 10-7-04; 8:45 am]

BILLING CODE 4310-$$-P